DEPARTMENT OF HOMELAND SECURITY

Federal Emergency Management Agency

[Docket ID: FEMA-2014-0032]

Fee Schedule for Processing Requests for Map Changes, for Flood Insurance Study Backup Data, and for National Flood Insurance Program Map and Insurance Products

AGENCY: Federal Emergency Management Agency, DHS.

ACTION: Notice.

SUMMARY: This notice contains the revised fee schedules for processing certain types of requests for changes to National Flood Insurance Program (NFIP) maps, for processing requests for Flood Insurance Study (FIS) technical and administrative support data, and for processing requests for particular NFIP map and insurance products. The changes in the fee schedules will allow FEMA to reduce further the expenses to the NFIP by recovering more fully the costs associated with processing conditional and final map change requests; retrieving, reproducing, and distributing technical and administrative support data related to FIS analyses and mapping; and producing, retrieving, and distributing particular NFIP map and insurance products.

DATES: The revised fee schedules are effective for all requests dated February 20, 2015, or later.

The revised fee schedule for map changes is effective for all requests dated February 20, 2015, or later. The revised fee schedule supersedes the current fee schedule, which was established on January 13, 2010.

The revised fee schedule for requests for FIS backup data also is effective for all requests dated February 20, 2015, or later. The revised fee schedule supersedes the current fee schedule, which was established on January 13, 2010.

The revised fee schedule for requests for particular NFIP map and insurance products, which are available through the FEMA Map Service Center (MSC), is effective for all requests, including but not limited to hardcopy, on-line, and telephone requests received on or after February 20, 2015. The revised fee schedule supersedes the current fee schedule, which was established on January 13, 2010.

FOR FURTHER INFORMATION CONTACT: John Magnotti, Hydraulic Engineer, Data and Dissemination Management Branch, Risk Analysis Division, 500 C Street SW., Washington, DC 20472; by telephone at (202) 646-3932 or by facsimile at (202) 646-2787 (not toll-free calls); or by email at John.Magnotti@fema.dhs.gov.

SUPPLEMENTARY INFORMATION: This notice contains the revised fee schedules for processing certain types of requests for changes to National Flood Insurance Program (NFIP) maps, requests for Flood Insurance Study (FIS) technical and administrative support data, and requests for particular NFIP map and insurance products.

Evaluations Performed. To develop the revised fee schedule for conditional and final map change requests and letter of determination review requests, FEMA evaluated the actual costs of reviewing and processing requests for Conditional Letters of Map Amendment (CLOMAs), Conditional Letters of Map Revision Based on Fill (CLOMR-Fs), Conditional Letters of Map Revision (CLOMRs), Letters of Map Revision Based on Fill (LOMR-Fs), Letters of Map Revision (LOMRs), and Letters of Determination Review (LODRs).

To develop the revised fee schedule requests for FIS technical and administrative support data, FEMA evaluated the actual costs of reviewing, reproducing, and distributing archived data in seven categories. These categories are discussed in more detail below.

To develop the revised fee schedule for requests for particular NFIP map and insurance products, FEMA decided to eliminate fees for digital product downloads and to discontinue its distribution of paper-based products, as well as products on digital media (i.e. compact disc). This decision was based on the re-architecture of the Map Service Center (MSC), which allows for the online downloading of larger datasets. The products covered by this notice are discussed in detail below.

Periodic Evaluations of Fees. A primary component of the fees is the prevailing private-sector rates charged to FEMA for labor and materials. Because these rates and the actual review and processing costs may vary from year to year, FEMA will evaluate the fees periodically and publish revised fee schedules, when needed, as notices in the Federal Register.

Fee Schedule for Requests for Conditional Letters of Map Amendment and Conditional and Final Letters of Map Revision Based on Fill

Based on a review of actual cost data for Fiscal Years 2010, 2011, 2012, and 2013, FEMA established the following review and processing fees, which are to be submitted with all requests:

LOMC Type | Proposed fee | Proposed online submission fee
Single-lot/single-structure CLOMA and CLOMR-F | $600 | $500
Single-lot/single-structure LOMR-F | 525 | 425
Single-lot/single-structure LOMR-F based on as-built information (CLOMR-F previously issued by FEMA) | 425 | 325
Multiple-lot/multiple-structure CLOMA | 800 | 700
Multiple-lot/multiple-structure CLOMR-F and LOMR-F | 900 | 800
Multiple-lot/multiple-structure LOMR-F based on as-built information (CLOMR-F previously issued by FEMA) | 800 | 700
Note that for digital submissions, the fees for these products have been reduced by $100, since the costs for handling, scanning, and transportation will be lower. The higher costs associated with handling, scanning, and transportation of hardcopy submissions will continue to be recovered.

Fee Schedule for Requests for Letters of Determination Review

Based on a review of actual cost data for Fiscal Years 2010, 2011, 2012, and 2013, FEMA established the following review and processing fee for requests for Letters of Determination Review, which is to be submitted with all requests:

Product type | Proposed fee
LODR | $80

Fee Schedule for Requests for Conditional Letters of Map Revision

Based on a review of actual cost data for Fiscal Years 2010, 2011, 2012, and 2013, FEMA established the following review and processing fees, which are to be submitted with all requests that are not otherwise exempted under 44 CFR 72.5 and/or the Homeowner Flood Insurance Affordability Act of 2014, Public Law 113-89, section 22, Mar. 21, 2014, 128 Stat. 1028, 42 U.S.C. 4101e.:

LOMC Type | Proposed fee | Proposed online submission fee
CLOMR based on new hydrology, bridge, culvert, channel, or any combination thereof | $6,750 | $6,500
Note that for digital submissions, the fee for this product has been reduced by $250, since the costs for handling, scanning, and transportation will be lower. The higher costs associated with handling, scanning, and transportation of hardcopy submissions will continue to be recovered.

Fees for Conditional Letters of Map Revision Based on a Levee, Berm, or Other Structural Measure

Based on a review of actual cost data for Fiscal Years 2010, 2011, 2012, and 2013, FEMA has established $7,250 as the initial fee for requests for CLOMRs based on a levee, berm, or other structural measure. For digital submissions, the fees for this product have been reduced by $250, since the costs for handling, scanning, and transportation will be lower. The higher costs associated with handling, scanning, and transportation of hardcopy submissions will continue to be recovered. FEMA will also continue to recover the remainder of the review and processing costs by invoicing the requester before issuing a determination letter, consistent with current practice. The prevailing private-sector labor rate charged to FEMA ($60 per hour) will continue to be used to calculate the total fees to be submitted to FEMA.

LOMC Type | Proposed fee | Proposed online submission fee
CLOMR based on a levee, berm, or other structural measure | $7,250 (plus $60/h) | $7,000 (plus $60/h).
Note that for digital submissions, the fee for this product has been reduced by $250, since the costs for handling, scanning, and transportation will be lower. The higher costs associated with handling, scanning, and transportation of hardcopy submissions will continue to be recovered.

Fee Schedule for Requests for Letters of Map Revisions

Based on a review of actual cost data for Fiscal Years 2010, 2011, 2012, and 2013, FEMA established the following review and processing fees, which are to be submitted with all requests that are not otherwise exempted under 44 CFR 72.5 and/or the Homeowner Flood Insurance Affordability Act of 2014, Public Law 113-89, section 22, Mar. 21, 2014, 128 Stat. 1028, 42 U.S.C. 4101e. Requesters must submit the review and processing fees shown below with requests for LOMRs dated February 20, 2015, or later that are not based on structural measures on alluvial fans.

LOMC Type | Proposed fee | Proposed online submission fee
LOMR based on a bridge, culvert, channel, hydrology, or combination thereof | $8,250 | $8,000
LOMR based on as-built information submitted as a follow-up to a CLOMR | 8,250 | 8,000
Note that for digital submissions the fees have been reduced by $250 for these products since there will be less handling, scanning, and transportation costs on these products. The higher costs associated with handling, scanning, and transportation of hardcopy submissions will continue to be recovered.

Fees for Final Letters of Map Revision Based on a Levee, Berm, or Other Structural Measure

Based on a review of actual cost data for Fiscal Years 2010, 2011, 2012, and 2013, FEMA has established $9,250 as the initial fee for requests for LOMRs based on levee, berm, or other structural measure. For digital submissions, the fees for this product have been reduced by $250, since the costs for handling, scanning, and transportation will be lower. The higher costs associated with handling, scanning, and transportation of hardcopy submissions will continue to be recovered. FEMA will also continue to recover the remainder of the review and processing costs by invoicing the requester before issuing a determination letter, consistent with current practice. The prevailing private-sector labor rate charged to FEMA ($60 per hour) will continue to be used to calculate the total fees to be submitted to FEMA.

LOMC Type | Proposed fee | Proposed online submission fee
LOMR based on a levee, berm, or other structural measure | $9,250 (plus $60/h) | $9,000 (plus $60/h).
Note that for digital submissions, the fee for this product has been reduced by $250, since the costs for handling, scanning, and transportation will be lower. The higher costs associated with handling, scanning, and transportation of hardcopy submissions will continue to be recovered.

Fees for Conditional and Final Letters of Map Revision Based on Structural Measures on Alluvial Fans

Based on a review of actual cost data for Fiscal Years 2010, 2011, 2012, and 2013, FEMA has established $7,250 as the initial fee for requests for CLOMRs and LOMRs based on structural measures on alluvial fans. For digital submissions, the fees for these products have been reduced by $250, since the costs for handling, scanning, and transportation will be lower. The higher costs associated with handling, scanning, and transportation of hardcopy submissions will continue to be recovered. FEMA will also continue to recover the remainder of the review and processing costs by invoicing the requester before issuing a determination letter, consistent with current practice. The prevailing private-sector labor rate charged to FEMA ($60 per hour) will continue to be used to calculate the total fees to be submitted to FEMA.

LOMC Type | Proposed fee | Proposed online submission fee
CLOMR based on structural measures on alluvial fans | $7,250 (plus $60/h) | $7,000 (plus $60/h).
LOMR based on structural measures on alluvial fans | $7,250 (plus $60/h) | $7,000 (plus $60/h).
Note that for digital submissions the fees have been reduced by $250 for these products since there will be less handling, scanning, and transportation costs on these products. The higher costs associated with handling, scanning, and transportation of hardcopy submissions will continue to be recovered.

Fees for the Mapping of Physical Map Revisions (PMRs)

Based on a review of actual cost data for Fiscal Years 2010, 2011, 2012, and 2013, FEMA has established $8,250 as the initial fee for requests to process the review of PMRs. Additional fee of $2,500 per panel is required to create the mapping for the PMR. Requesters must submit the review and processing fees shown below with requests for PMRs dated February 20, 2015, or later that are not based on structural measures on alluvial fans.

PMR Type | Proposed fee | Proposed online submission fee
PMR based on a bridge, culvert, channel, hydrology, or combination thereof | $8,250 plus $2,500/panel | $8,000 plus $2,500/panel.
PMR based on as-built information submitted as a follow-up to a CLOMR | $8,250 plus $2,500/panel | $8,000 plus $2,500/panel.
Note that for digital submissions the fees have been reduced by $250 for these products since there will be less handling, scanning, and transportation costs on these products. The higher costs associated with handling, scanning, and transportation of hardcopy submissions will continue to be recovered.

Fees for Mapping of Physical Map Revisions Based on a Levee, Berm, or Other Structural Measure

Based on a review of actual cost data for Fiscal Years 2010, 2011, 2012, and 2013, FEMA has established $9,250 as the initial fee for requests to process the review of PMRs based on levee, berm, or other structural measure. Additional fee of $2,500 per panel is required to create the mapping for the PMR. For digital submissions, the fees for this product have been reduced by $250, since the costs for handling, scanning, and transportation will be lower. The higher costs associated with handling, scanning, and transportation of hardcopy submissions will continue to be recovered. FEMA will also continue to recover the remainder of the review and processing costs by invoicing the requester before issuing a determination letter, consistent with current practice. The prevailing private-sector labor rate charged to FEMA ($60 per hour) will continue to be used to calculate the total fees to be submitted to FEMA.

PMR Type | Proposed fee | Proposed online submission fee
PMR based on a levee, berm, or other structural measure | $9,250 (plus $60/h) plus $2,500/panel | $9,000 (plus $60/h) plus $2,500/panel.
Note that for digital submissions, the fee for this product has been reduced by $250, since the costs for handling, scanning, and transportation will be lower. The higher costs associated with handling, scanning, and transportation of hardcopy submissions will continue to be recovered.

Fees for Physical Map Revision Based on Structural Measures on Alluvial Fans

Based on a review of actual cost data for Fiscal Years 2010, 2011, 2012, and 2013, FEMA has established $7,250 as the initial fee for requests to process the review of PMRs based on structural measures on alluvial fans. Additional fee of $2,500 per panel is required to create the mapping for the PMR. For digital submissions, the fees for these products have been reduced by $250, since the costs for handling, scanning, and transportation will be lower. The higher costs associated with handling, scanning, and transportation of hardcopy submissions will continue to be recovered. FEMA will also continue to recover the remainder of the review and processing costs by invoicing the requester before issuing a determination letter, consistent with current practice. The prevailing private-sector labor rate charged to FEMA ($60 per hour) will continue to be used to calculate the total fees to be submitted to FEMA.

PMR Type | Proposed fee | Proposed online submission fee
PMR based on structural measures on alluvial fans | $7,250 (plus $60/h) plus $2,500/panel | $7,000 (plus $60/h) plus $2,500/panel.
Note that for digital submissions the fees have been reduced by $250 for these products since there will be less handling, scanning, and transportation costs on these products. The higher costs associated with handling, scanning, and transportation of hardcopy submissions will continue to be recovered.

Fee Schedule for Flood Insurance Study Backup Data

Non-exempt requesters of FIS technical and administrative support data must submit the fees shown below with requests dated February 20, 2015, or later. These fees are based on the complete recovery costs to FEMA for retrieving, reproducing, and distributing the data, as well as maintaining the library archives, and for collecting and depositing fees. Based on a review of actual cost data for Fiscal Years 2010, 2011, 2012, and 2013, FEMA established the following review and processing fees from the February 20, 2015, fee schedule, which are to be submitted with all requests.

All entities except the following will be charged for requests for FIS technical and administrative support data:

• Private architectural-engineering firms under contract to FEMA to perform or evaluate studies and restudies;

• Federal agencies involved in performing studies and restudies for FEMA (i.e., U.S. Army Corps of Engineers, U.S. Geological Survey, Natural Resources Conservation Service, and Tennessee Valley Authority);

• Communities that have supplied the Digital Line Graph base to FEMA and request the Digital Line Graph data (Category 6 below);

• Communities that request data during the statutory 90-day appeal period for an initial or revised FIS for that community;

• Mapped participating communities that request data at any time other than during the statutory 90-day appeal period, provided the data are requested for use by the community and not a third-party user; and

• State NFIP Coordinators, provided the data requested are for use by the State NFIP Coordinators and not a third-party user.

FEMA has established seven categories into which requests for FIS backup data are separated. These categories are:

(1) Category 1—Paper copies, microfiche, or diskettes of hydrologic and hydraulic backup data for current or historical FISs;

(2) Category 2—Paper or mylar copies of topographic mapping developed during FIS process;

(3) Category 3—Paper copies or microfiche of survey notes developed during FIS process;

(4) Category 4—Paper copies of individual Letters of Map Change (LOMCs);

(5) Category 5—Paper copies of Preliminary Flood Insurance Rate Map (FIRM) or Flood Boundary and Floodway Map panels;

(6) Category 6—Computer tapes or CD-ROMs of Digital Line Graph files, Digital FIRM files, or Digital LOMR attachment files; and

(7) Category 7—Computer diskettes and user's manuals for FEMA computer programs.

FEMA established a flat non-refundable fee of $300 for non-exempt requesters of FIS technical and administrative support data to initiate a request under Categories 1, 2, and 3 above. This fee covers the costs of 4 hours of research and retrieval. For larger requests that require more than 4 hours of research, additional hours will be charged at $40 per hour. If the data requested are available and the request is not cancelled, the final fee is calculated as a sum of the standard per-product charge plus a per-case surcharge of $93, designed to recover the cost of library maintenance and archiving. The total costs of processing requests in Categories 1, 2, and 3 will vary based on the complexity of the research involved in retrieving the data and the volume and medium of the data to be reproduced and distributed. The initial flat fee will be applied against the total costs to process the request, and FEMA will invoice the requester for the balance plus the per-case surcharge before the data are provided. No data will be provided to a requester until all required fees have been paid.

No initial fee is required to initiate a request for data under Categories 4 through 7. Requesters will be notified by telephone about the availability of the data and the fees associated with the requested data.

As with requests for data under Categories 1, 2, and 3, no data will be provided to requesters until all required fees are paid. A flat user fee for each of these categories of requests, shown below, will continue to be required.

Request Under Category 4 (First Letter) $40

Request Under Category 4 (Each additional letter) $10

Request Under Category 5 (First panel) $35

Request Under Category 5 (Each additional panel) $2

Request Under Category 6 (per county/digital LOMR attachment shapefiles) $150

Request Under Category 7 (per copy) $25

Fee Schedule for Map and Insurance Products

The MSC distributes a variety of NFIP map and insurance products to a wide range of customers, including Federal, State, and local government officials; real estate professionals; insurance providers; appraisers; builders; land developers; design engineers; surveyors; lenders; homeowners; and other private citizens.

FEMA decided to eliminate fees for digital product downloads and discontinue its distribution of paper-based products, as well as products on digital media (i.e. compact disc). This decision was based on the re-architecture of the MSC, which allows for the online downloading of larger datasets. All of the products produced by the program will be housed online through the MSC. By making this change, FEMA will no longer have any costs for reproduction, shipping, and handling of digital media, except for the very limited fee-exempt distribution to communities affected by map changes. FEMA will also have virtually no variable costs associated with public distribution of products. Whether one customer downloads a digital flood map or thousands download it, FEMA's costs are essentially the same. Some fixed IT costs are associated with building and maintaining the MSC systems; however, FEMA has a statutory mandate to make the flood data products available for free to a large percentage of the customer base. As a result, virtually no costs can be directly attributed to a specific delivery of a product to a specific customer.

For more information on the map and insurance products available from the MSC, interested parties are invited to visit the MSC Web site at http://msc.fema.gov.

Payment Submission Requirements

Fee payments for non-exempt requests must be made in advance of services being rendered. These payments shall be made in the form of a check, money order, or by credit card payment. Checks and money orders must be made payable, in U.S. funds, to the

National Flood Insurance Program.

FEMA will deposit all fees collected to the National Flood Insurance Fund, which is the source of funding for providing these services.

Authority: 42 U.S.C. 4001 et seq.; Reorganization Plan No. 3 of 1978, 43 FR 41943, 3 CFR, 1978 Comp., p. 329; E.O. 12127, 44 FR 19367, 3 CFR, 1979 Comp., p. 376; 44 CFR part 72; Homeowner Flood Insurance Affordability Act of 2014.

Dated: December 4, 2014.
Roy Wright,
Deputy Associate Administrator for Mitigation, Federal Insurance and Mitigation Administration, Department of Homeland Security.

[FR Doc. 2015-00904 Filed 1-20-15; 8:45 am]

BILLING CODE 9110-12-P